DEPARTMENT OF TRANSPORTATION

Federal Aviation Administration

14 CFR Part 39

[Docket No. FAA-2006-24103; Directorate Identifier 2005-NM-241-AD]

RIN 2120-AA64

Airworthiness Directives; Airbus Model A300 B4-600R Series Airplanes, A300 C4-605R Variant F Airplanes, A300 F4-600R Series Airplanes, and Model A310-300 Series Airplanes

AGENCY: Federal Aviation Administration (FAA), Department of Transportation (DOT).

ACTION: Notice of proposed rulemaking (NPRM).

SUMMARY: The FAA proposes to adopt a new airworthiness directive (AD) for certain Airbus transport category airplanes. This proposed AD would require replacing the existing vent float valve with a new improved vent float valve. This proposed AD results from reports of failure of the vent float valve in the left-hand outboard section of the trimmable horizontal stabilizer. We are proposing this AD to prevent, in the event of a lightning strike to the horizontal stabilizer, sparking of metal parts and debris from detached and damaged float vales, or a buildup of static electricity, which could result in ignition of fuel vapors and consequent fire or explosion.

DATES: We must receive comments on this proposed AD by April 7, 2006.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed in the ADDRESSES section. Include the docket number “FAA-2006-24103; Directorate Identifier 2005-NM-241-AD” at the beginning of your comments. We specifically invite comments on the overall regulatory, economic, environmental, and energy aspects of the proposed AD. We will consider all comments received by the closing date and may amend the proposed AD in light of those comments.

We will post all comments we receive, without change, to http://dms.dot.gov including any personal information you provide. We will also post a report summarizing each substantive verbal contact with FAA personnel concerning this proposed AD. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.govROW or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

The Direction Générale de l'Aviation Civile (DGAC), which is the airworthiness authority for Franch, notified us that an unsafe condition may exist on certain Airbus Model A300 B4-600R series airplanes, A300 C4-605R Variant F airplanes, A300 F4-600R series airplanes, and Model A310-300 series airplanes. The DGAC advises that it has received reports of in-service failures of the vent float valve in the trim tank. The vent float valve is located in the left-hand outboard section of the trimmable horizontal stabilizer at Functional Item Number (FIN) position 280454. In the event of a lightning strike to the horizontal stabilizer, sparking of metal parts and debris from detached and damaged float vales, or a buildup of static electricity, could result in ignition of fuel vapors and consequent fire or explosion.

Relevant Service Information

Airbus has issued Service Bulletins A310-28-2155 (for Model A310-300 series airplanes) and A300-28-6081 (for A300 B4-600R series airplanes, A300 C4-605R Variant F airplanes, and A300 F4-600R series airplanes). Both service bulletins are dated February 16, 2005. The service bulletins describe procedures for replacing the existing vent float valve with a new improved vent float valve. Accomplishing the actions specified in the service information is intended to adequately address the unsafe condition. The DGAC mandated the service information and issued French airworthiness directive F-2005-148, dated August 17, 2005, to ensure the continued airworthiness of these airplanes in France.

FAA's Determination and Requirements of the Proposed AD

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the DGAC's findings, evaluated all pertinent information, and determined that we need to issue an AD for airplanes of these type designs that are certificated for operation in the United States.

Therefore, we are proposing this AD, which would require accomplishing the actions specified in the service information described previously.

Difference Between the French Airworthiness Directive and This Proposed AD

The applicability of French airworthiness directive F-2005-148 excludes airplanes on which Airbus Service Bulletin Airbus Service Bulletin A300-28-6081 (for Model A300 B4-605R and B4-622R airplanes, A300 C4-605R Variant F airplanes, and A300 F4-605R and F4-622R airplanes) or A310-28-2155 (for Model A310-304, -322, -324, and -325 airplanes) were accomplished in-service. Both service bulletins are dated February 16, 2005. However, we have not excluded those airplanes in the applicability of this proposed AD; rather, this proposed AD includes a requirement to accomplish the actions specified in that service bulletin. This requirement would ensure that the actions specified in the service bulletin and required by this proposed AD are accomplished on all affected airplanes. Operators must continue to operate the airplane in the configuration required by this proposed AD unless an alternative method of compliance is approved. This difference has been coordinated with the DGAC.

Costs of Compliance

This proposed AD would affect about 179 airplanes of U.S. registry. The proposed actions would take about 4 work hours per airplane, at an average labor rate of $65 per work hour. Required parts would be provided by the manufacturer at no cost to the operator. Based on these figures, the estimated cost of the proposed AD for U.S. operators is $46,540, or $260 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2006-24103; Directorate Identifier 2005-NM-241-AD.

Comments Due Date

(a) The FAA must receive comments on this AD action by April 7, 2006.

Affected ADs

(b) None.

Applicability

(c) This AD applies to Airbus Model A300 B4-605R and B4-622R airplanes, A300 C4-605R Variant F airplanes, A300 F4-605R and F4-622R airplanes, and Model A310-304, -322, -324, and -325 airplanes; certificated in any category, except those airplanes on which Airbus Modification 12897 has been accomplished in production.

Unsafe Condition

(d) This AD results from reports of broken vent float valve in the left-hand outboard section of the trimmable horizontal stabilizer. We are issuing this AD to prevent, in the event of a lightning strike to the horizontal stabilizer, sparking of metal parts and debris from detached and damaged float vales, or a buildup of static electricity, which could result in ignition of fuel vapors and consequent fire or explosion.

Compliance

(e) You are responsible for having the actions required by this AD performed within the compliance times specified, unless the actions have already been done.

Action Heading

(f) Within 36 months after the effective date of this AD: Replace Intertechnique vent float valve, Part Number (P/N) L87-13-001, in the trim tank with P/N L87-13-003; in accordance with Airbus Service Bulletin A300-28-6081 (for Model A300 B4-605R and B4-622R airplanes, A300 C4-605R Variant F airplanes, and A300 F4-605R and F4-622R airplanes) or A310-28-2155 (for Model A310-304, -322, -324, and -325 airplanes). Both service bulletins are dated February 16, 2005.

Alternative Methods of Compliance (AMOCs)

(g)(1) The Manager, International Branch, ANM-116, has the authority to approve AMOCs for this AD, if requested in accordance with the procedures found in 14 CFR 39.19.

(2) Before using any AMOC approved in accordance with § 39.19 on any airplane to which the AMOC applies, notify the appropriate principal inspector in the FAA Flight Standards Certificate Holding District Office.

Parts Installation

(h) As of the effective date of this AD, no person may install a vent float valve, P/N L87-13-001, on any airplane.

Related Information

(i) French airworthiness directive F-2005-148, dated August 17, 2005, also addresses the subject of this AD.

Issued in Renton, Washington, on February 28, 2006.
Kalene C. Yanamura,
Acting Manager, Transport Airplane Directorate, Aircraft Certification Service.

[FR Doc. E6-3264 Filed 3-7-06; 8:45 am]

BILLING CODE 4910-13-P